DEPARTMENT OF AGRICULTURE

Rural Utilities Service

Announcement of Grant Awards under the RUS Distance Learning and Telemedicine Grant Program

AGENCY: Rural Utilities Service, USDA.

ACTION: Notice of applications selected to receive grant awards.

SUMMARY: The Rural Utilities Service (RUS) hereby announces the recipients that were selected to receive grant awards during fiscal year (FY) 2001 under the Distance Learning and Telemedicine Grant Program.

FOR FURTHER INFORMATION CONTACT: Marilyn J. Morgan, Branch Chief, Distance Learning and Telemedicine Branch, U.S. Department of Agriculture, Rural Utilities Service, STOP 1550, Room 2845, South Building, 1400 Independence Avenue, S.W., Washington, DC 20250-1701. Telephone: (202) 720-0413. FAX: (202) 720-1051.

SUPPLEMENTARY INFORMATION: Pursuant to 7 CFR 1703.101, RUS is hereby publishing the names of the 87 organizations that have been awarded $26,750,535 in grants under 7 CFR part 1703, Subpart D, Distance Learning and Telemedicine Grant Program. The recipients are as follows:

USDA, Rural Utilities Service, Telecommunications Program, FY 2001 Distance Learning and Telemedicine Grant Awards
State | Grantee | Award amount
AK | Matanuska-Susitna Borough School District | $361,272
AL | Lowndes County Board of Education | 228,000
AL | Northwest-Shoal Community College | 273,887
AR | Crowley's Ridge Education Service Cooperative | 81,872
AR | DeQueen/Foreman/Ashdown Distance Learning Consortium | 500,000
AR | Helena-West Helena School District | 500,000
AS | American Samoa Community College | 411,989
AZ | Central Arizona College | 130,100
CA | Monterey County Office of Education | 500,000
CA | West Hills Community College District | 500,000
CA | Visible Light, Inc. | 500,000
CA | Visiting Nurse Association of the Inland Counties | 339,524
CA | Clovis Unified School District | 438,011
CO | High Plains Rural Health Network | 292,900
CO | Montrose Memorial Hospital | 418,000
FL | Florida State University | 246,206
HI | Hawaii Health Systems Foundation | 372,650
IA | Indian Hills Community College | 94,028
IA | Lamoni Community School District | 249,380
IA | Corning Community School District | 494,289
IN | Central Indiana Health System | 133,428
IN | Scott County School District 1 | 500,000
IN | Wilson Education Center | 500,000
KS | Smith County Memorial Hospital | 59,500
KY | Johnson Mathers Health Care, Inc. | 352,787
KY | Morgan County ARH Hospital | 52,500
LA | Union General Hospital, Inc | 69,600
LA | East Carroll Parish Hospital | 100,100
MA | Hampshire Educational Collaborative | 208,288
MA | Nantucket Cottage Hospital | 113,400
ME | Penquis Community Action Program, Inc. | 497,426
ME | St. Andrews Hospital | 115,000
ME | St. Joseph Healthcare, Inc. | 499,800
ME | Visiting Nurse Service of Southern Maine and Seacoast New Hampshire | 188,702
MI | Gratiot-Isabella Regional Educational Service District | 296,500
MI | Iosco Regional Educational Service Agency | 106,362
MI | Owendale-Gagetown Area Schools | 54,000
MN | Cuyuna Range Hospital District | 500,000
MN | Paynesville Area Health Hospital District | 264,071
MN | Tri-County Hospital, Inc. | 500,000
MO | Pathways Community Behavioral Healthcare | 410,275
MO | The University of Health Sciences | 165,840
MO | Texas County Technical Institute | 71,863
MS | Cleveland School District | 500,000
MS | Harrison County School District | 500,000
MS | Neshoba County School District | 500,000
MT | Deaconess Billings Clinic Foundation | 500,000
MT | Poplar Public Schools | 350,000
MT | Saint Vincent Foundation | 368,142
ND | Landon School District Foundation | 110,000
ND | Medcenter One Health Systems, Inc | 447,710
ND | West River Health Services | 68,229
NE | Crossroads Distance Learning Education Consortium | 433,830
NE | Madonna Rehabilitation Hospital | 306,110
NE | Rural Health Partners, Inc. | 196,012
NM | Clayton Municipal School District No. 1 | 163,100
NM | University of New Mexico-Gallup | 482,420
NY | Copenhagen Central School—Lead Educational Agency | 473,900
NY | Hoosick Falls Health Center, Inc. | 205,393
NY | Research Foundation of SUNY for SUNY College of Technology at Canton | 122,565
NY | Westchester Medical Center | 455,303
OH | Ohio University Southern Campus | 468,000
OK | Hillcrest-Riverside, Inc. | 142,000
OK | Sequoyah County-City of Sallisaw Hospital Authority | 63,431
OR | North Central Education Service District | 215,300
OR | North Lincoln Hospital Foundation | 103,519
OR | Rogue Valley Medical Center Foundation | 499,750
OR | St. Charles Medical Center Foundation | 321,447
PA | The Pennsylvania State University | 364,087
SD | Horizon Health Care, Inc. | 208,739
TN | Polk County School System | 500,000
TN | The University of Tennessee Health Science Center, College of Pharmacy | 459,295
TN | The University of Tennessee Health Science Center | 498,747
TN | The University of Tennessee Health Science Center, College of Pharmacy | 493,675
TN | The University of Tennessee Health Science Center | 477,057
TX | Hill College | 176,266
TX | Info-Net Consortium | 463,040
TX | Odessa Emergency Providers AF, Inc. | 71,838
TX | Scott & White Memorial Hospital & Scott, Sherwood, Brindley Foundation | 335,402
TX | Taft Independent School District | 190,038
TX | Texana Mental Health and Mental Retardation Center | 66,800
TX | Texas Family Health Network, Inc. | 494,927
TX | Texas A&M University-Kingsville | 195,500
VA | Medical College of Hampton Roads (Eastern Virginia Medical School) | 51,226
VA | Paul D. Camp Community College | 445,930
WI | Spring Valley Health Care Center | 70,257
WI | Cooperative Educational Service Agency | 500,000

Dated: October 19, 2001.
Kenneth M. Ackerman,
Acting Administrator, Rural Utilities Service.

[FR Doc. 01-26836 Filed 10-24-01; 8:45 am]

BILLING CODE 3410-15-P